DEPARTMENT OF COMMERCE

National Oceanic and Atmospheric Administration

RIN 0648-XA458

Mid-Atlantic Fishery Management Council (MAFMC); Meetings

AGENCY: National Marine Fisheries Service (NMFS), National Oceanic and Atmospheric Administration (NOAA), Commerce.

ACTION: Notice of public meeting.

SUMMARY: The Mid-Atlantic Fishery Management Council (Council) and its Research Set-Aside (RSA) Committee, its Ecosystems and Ocean Planning Committee, its Executive Committee, its Surfclam, Ocean Quahog, Tilefish Committee, its Visioning Committee, and its Squid, Mackerel, Butterfish (SMB) Committee will hold public meetings.

DATES: The meetings will be held Tuesday, June 14, 2011 through Thursday, June 16, 2011. See SUPPLEMENTARY INFORMATION for specific dates and times.

ADDRESSES: Danfords Hotel, 25 East Broadway, Port Jefferson, NY 11777; telephone: (631) 928-5200.

Council address: Mid-Atlantic Fishery Management Council, 800 N. State St., Suite 201, Dover, DE 19901; telephone: (302) 674-2331.

FOR FURTHER INFORMATION CONTACT: Christopher M. Moore, PhD Executive Director, Mid-Atlantic Fishery Management Council; telephone: (302) 526-5255.

SUPPLEMENTARY INFORMATION: On Tuesday, June 14—The RSA Committee will hold a CLOSED meeting from 12 p.m. until 2 p.m. The RSA Committee will hold an OPEN meeting from 2 p.m. until 3 p.m. The Ecosystems and Ocean Planning Committee will be held from 3 p.m. until 4 p.m. An Ocean Observatories Initiative (OOI) Public Meeting will be held from 4 p.m. until 5 p.m. A Cooperative Research Program Public Meeting will be held from 5 p.m. until 7 p.m.

On Wednesday, June 15—The Executive Committee meeting will be held from 8 a.m. until 9:30 a.m. The Council will convene at 9:30 a.m. The Surfclam, Ocean Quahog and Tilefish Committee will meet as a Committee of the Whole from 9:30 a.m. until 11 a.m. The Visioning Committee will meet as a Committee of the Whole from 11 a.m. until 12 p.m. The Squid, Mackerel, and Butterfish Committee will meet as a Committee of the Whole from 1 p.m. until 4 p.m. A request for Special Management Zones for Delaware reefs will be presented to the Council from 4 p.m. until 5 p.m. A Council listening session will be held from 5 p.m. until 6:30 p.m.

On Thursday, June 16—The Council will convene at 8 a.m. There will be a Marine Recreational Information Program (MRIP) presentation from 8 a.m. until 9 a.m. There will be a National Standard 10 presentation from the National Marine Fisheries Service from 9 a.m. until 10 a.m. The Council will hold its regular Business Session from 10 a.m. until 1 p.m. to approve the April 2011 minutes, receive Organizational Reports, an update on Office of Law Enforcement (OLE) activities, the New England Liaison Report, an update on Amendment 6 to the Monkfish FMP, the Executive Director's Report, the Science Report, Committee Reports, and conduct any continuing and/or new business.

Agenda items by day for the Council's Committees and the Council itself are:

On Tuesday, June 14—The RSA Committee will discuss the RSA Program Review. The Ecosystems and Ocean Planning Committee will receive CIE review of Northeast Fishery Science Center Ecosystem program/models and discuss Bureau of Ocean Energy Management, Regulation and Enforcement information request for areas offshore of New Jersey. There will be an OOI Public Meeting to present and discuss the Pioneer Array micro-siting process. There will be a Cooperative Research Program Public Meeting to receive an overview of the 2010-14 strategic plan and progress, receive description and comments on conservation engineering network, and receive public comments on the cooperative research program.

On Wednesday, June 15—The Executive Committee will receive an update on Scientific and Statistical Committee Ecosystem Subcommittee work, discuss Fishery Management Action Team structure and function, discuss the purpose and need for the Council Listening Sessions, receive a Council Coordination Committee meeting overview, and discuss the Council budget. The Surfclam, Ocean Quahog and Tilefish Committee will meet as a Committee of the Whole to review and consider changes to the 2012 and 2013 quota specifications for surfclams and ocean quahogs. The Visioning Committee will meet as a Committee of the Whole to review and finalize governance structure for the project, discuss plans for initial awareness phase of project and review the approach for the data collection phase of the project The SMB Committee will meet as a Committee of the Whole to develop 2012 quota specifications and associated management measures, clarify Council intent on any Amendment 11 regulatory issues if necessary, receive an update from NERO regarding August 4, 2010 Council letter asking NMFS to pursue a Transboundary Resource Sharing Agreement with Canada for Atlantic mackerel. The Council will consider a request from the Delaware Department of Natural Resources and Environmental Control for special management zones. The Council will hold a Council Listening Session.

On Thursday, June 16—The Council will convene to receive an update on MRIP implementation and an update on Council staff involvement in 2011 MRIP projects. The Council will receive a presentation on National Standard 10 from a NMFS Official. The Council will hold its regular Business Session to approve the April 2011 minutes, receive Organizational Reports, receive an update on OLE Activities from Mitch MacDonald, receive the New England Liaison Report, receive an update on Amendment 6 to the Monkfish FMP, the Executive Director's Report, the Science Report, Committee Reports, and conduct any continuing and/or new business.

Although non-emergency issues not contained in this agenda may come before these groups for discussion, those issues may not be the subject of formal action during these meetings. Action will be restricted to those issues specifically listed in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aid should be directed to M. Jan Saunders, (302) 526-5251, at least 5 days prior to the meeting date.

Dated: May 24, 2011.
Tracey L. Thompson,
Acting Director, Office of Sustainable Fisheries, National Marine Fisheries Service.

[FR Doc. 2011-13225 Filed 5-26-11; 8:45 am]

BILLING CODE 3510-22-P